DEPARTMENT OF TRANSPORTATION

Federal Highway Administration

Revise Notice of Intent for an Environmental Impact Statement: State Route (SR) 95 Realignment Study: Interstate 40 to SR 68, Mohave County, Arizona

AGENCY: Federal Highway Administration (FHWA), United States Department of Transportation (DOT).

ACTION: Revised Notice of Intent (NOI).

SUMMARY: FHWA is issuing this Revised NOI to advise the public of a change to the environmental review process for the proposed realignment of State Route (SR) 95 in Mohave County, Arizona. FHWA and the project sponsor, the Arizona Department of Transportation (ADOT), intend to use a tiered process to facilitate project decision-making. This notice revises the NOI that was published in the Federal Register on June 1, 2007.

The proposed tiering approach will allow FHWA and ADOT to identify potential corridors and to broadly evaluate a range of potential environmental impacts and mitigation approaches in Tier 1. The Tier 1 analysis will utilize as appropriate technical data obtained thus far in the environmental review process. Subsequently, in Tier 2, the agencies will evaluate project-level, site-specific impacts, and required mitigation and commitments.

FOR FURTHER INFORMATION CONTACT: Alan Hansen, Team Leader—Planning, Environment & Realty, Federal Highway Administration, 4000 North Central Avenue, Suite 1500, Phoenix, AZ 85012-3500, Telephone: (602) 382-8964, Email: alan.hansen@dot.gov.

SUPPLEMENTARY INFORMATION: On June 1, 2007, FHWA and ADOT, in cooperation with Mohave County and the City of Bullhead City, issued an NOI to prepare an EIS for the proposed realignment of SR 95 in Mohave County, Arizona (Federal Register Vol. 72, No. 105). The study area begins approximately 2 miles south of Interstate 40 near Topock, Arizona and extends north to SR 68 near Bullhead City, Arizona. Information and documents regarding the environmental review process will be made available for the duration of the Tier 1 EIS process on the following Web site: https://www.azdot.gov/projects/far-west/sr-95-realignment-study-i-40-to-sr-68.

Public Involvement: Public outreach will continue throughout this Tier 1 EIS process. At least one public hearing will be held during the study, and the Draft EIS will be available for public and agency review and comment prior to the public hearing.

Purpose and Need: The Tier 1 EIS will evaluate alternatives that address the following needs of the SR 95 corridor: (1) Increasing traffic volumes will lead to capacity deficiencies on SR 95 within the study area; (2) the operation of SR 95 will fail by the design year 2040 through much of the study area; (3) much of the length of the roadway will continue to be used for regional and local traffic, which is not consistent with its intended function; and (4) critically high accident rates will continue into the foreseeable future unless measures are undertaken to address at least some of the factors causing the accidents. Therefore, the purpose of the proposed action is to identify the appropriate transportation solution(s) to rectify the increasing inability to safely and effectively move people, goods, and services through the study area.

Alternatives: Alternative corridors will be developed within the previously defined study area.

Environmental Review Process: The EIS will be developed in accordance with Council on Environmental Quality (CEQ) regulations (40 Code of Federal Regulations [CFR] part 1500 et seq.) implementing NEPA (42 U.S.C. 4321 et seq.), and FHWA regulations. FHWA and ADOT will use a tiered process, as provided for in 40 CFR 1508.28 and in accordance with FHWA guidance, in the completion of the environmental study.

If the Record of Decision indicates that FHWA has selected one of the alternative corridors as the environmentally preferred alternative, the evaluation of a specific highway alignment within the selected corridor would occur in a subsequent phase of the study. Subsequent Tier 2 assessment(s) would address a proposed highway alignment to be developed within the alternative corridor selected in the Tier 1 EIS, and would incorporate by reference the Tier 1 data, evaluations, and findings. The Tier 2 NEPA evaluation(s) would concentrate on site-specific issues and alternatives relevant to implementing a new highway alignment within the selected Tier 1 alternative corridor, and would identify the environmental consequences and measures necessary to mitigate environmental impacts at a site-specific level of detail.

(Catalog of Federal Domestic Assistance Program Number 20.205, Highway Research, Planning and Construction. The regulations implementing Executive Order 12372 regarding intergovernmental consultation on Federal programs and activities apply to this program.)

Authority: 23 U.S.C. 315; U.S.C. 771.123.

Issued on: December 10, 2013.
Karla S. Petty,
FHWA Division Administrator, Phoenix, AZ.

[FR Doc. 2013-30310 Filed 12-20-13; 8:45 am]

BILLING CODE P